DEPARTMENT OF AGRICULTURE

Forest Service

Forest Inventory and Analysis RPA Assessment Review Tables

AGENCY: Forest Service, USDA.

ACTION: Notice; request for comment.

SUMMARY: In accordance with the Paperwork Reduction Act of 1995, the Forest Service is seeking comments from all interested individuals and organizations on the draft tables for the 2007 RPA Forest Resources of the United States. These tables will be the basis for analysis of status and trends in the nation's forests and includes data for 1953, 1977, 1987, 1997, and 2007.

DATES: Comments must be received in writing on or before September 11, 2007 to be assured of consideration. Comments received after that date will be considered to the extent practicable.

ADDRESSES: The draft review tables are available in pdf format at: http://fia.fs.fed.us. Comments concerning this notice should be addressed to Dr. Richard Guldin, Director, Quantitative Sciences Staff—Forest Service, Mail Stop 1119, Washington, DC 20090-6090. Comments also may be submitted via facsimile to 703-605-5131 or by e-mail to: bsmith12@fs.fed.us.

The public may inspect comments received at 1601 N. Kent Street, Arlington, VA, Suite 4110, between regular business hours of 8:30 a.m. and 4:30 p.m. Monday through Friday. Visitors are encouraged to call ahead to 703-605-4177 to facilitate entry to the building.

FOR FURTHER INFORMATION CONTACT: W. Brad Smith, Quantitative Sciences Staff by phone at 703-605-4177 or by e-mail to: bsmith12@fs.fed.us. Individuals who use telecommunication devices for the deaf (TDD) may call the Federal Relay Service (FRS) at 1-800-877-8339 twenty-four hours a day, every day of the year, including holidays.

SUPPLEMENTARY INFORMATION: Through its Research organization, the Forest Service conducts continuous Statewide inventories of the Nation's forest resources to ascertain trends in the extent, condition, ownership, quantity, and quality of the forest resources in compliance with Forest and Rangeland Renewable Resources Research Act of 1978 (16 U.S.C. 1600, 1641-1648). This information is collected by the Forest Inventory and Analysis (FIA) program and forest statistics and subsequent analyses are released as State, Regional, and National reports and are based on data collected at sample locations on all land ownerships across the United States. Every 5 years, the FIA program compiles a summary of this data into standard tables as part of the RPA Assessment' Forest Resources of the United States report.

Dated: July 9, 2007.
Ann M. Bartuska,
Deputy Chief for Research & Development.

[FR Doc. E7-13589 Filed 7-12-07; 8:45 am]

BILLING CODE 3410-11-P